DEPARTMENT OF DEFENSE

Department of the Army

Army Policy for Use of the Army's Microsoft Enterprise License Agreement

AGENCY: Department of the Army; Chief Information Officer, G/6 (CIO/G6), DoD.

ACTION: Notice.

SUMMARY: The Army policy for use of the Microsoft (MS) Enterprise License Agreement (ELA) was signed on February 4, 2004 by Mr. Claude M. Bolton, Jr., Army Acquisition Executive and Lieutenant General Steven W. Boutelle, Army Chief Information Officer/G-6.

The policy designates the MS ELA as the single source for MS software and establishes procedures for using and acquiring MS products for new IT hardware purchases. The policy applies to the Active Army, the Army National Guard, and the U.S. Army Reserve.

Effective immediately, hardware vendors will utilize the Army inventory of MS ELA products when Army organizations purchase new desktops, laptops, and servers requiring MS software. Army organizations must ensure hardware vendors install the MS ELS software provided by the Army. Therefore, the MS ELA policy prohibits Army organizations from procuring MS software from hardware vendors or any other source of MS software. The Army Small Computer Program (ASCP) is the Army's exclusive source for all MS software purchases.

DATES: The policy is effective immediately and applies to the Active Army, the Army National Guard, and the U.S. Army Reserve.

FOR FURTHER INFORMATION CONTACT: For questions/or comment contact Ms. Amy Harding, NETCOM at commercial (703) 602-3286, DSN 332-3286, email Amy.Harding@hqda.army.mil, Cynthia K. Dixon, HQDA, CIO/G-6 commercial (703) 602-7374, DSN 332-7374, email Cynthia.Dixon@us.army.mil, and Army Small Computer Program (ASCP) Adelia Wardle, commercial (732) 427-6793, DSN 987-6793 or email Adelia.Wardle@us.army.mil.

SUPPLEMENTARY INFORMATION: The Army's recently implemented Microsoft Enterprise License Agreement (MS ELA) consolidates software purchases, licenses and upgrades across the Army. This is a result of an Army Chief Information Office (CIO/G-6) initiative begun in 2001 to improve management and oversight of the Army Enterprise Infostructure (AEI) environment.

In May 2003, collaboration among the CIO/G-6, the Army Small Computer Program (ASCP), the Army Contracting Agency (ACA), the Information Technology E-Commerce & Commercial Contract Center (ITEC4), and the Network Enterprise Technology Command (NETCOM) resulted in the award of an Enterprise Software Consolidation contract (Microsoft Enterprise License Agreement) to Softmart Government Services, Inc., of Downingtown, Pa. The award based on a best-value evaluation of offers from eight Department of Defense Enterprise Software Initiative (DOD ESI) vendors. The MS ELA is centrally funded for desktop and certain enterprise server software including upgrades. The award, valued at $471 million over a 6-year period, standardizes Microsoft software Army-wide, and provides the Army with substantial savings.

Cynthia K. Dixon,
Information Management Specialist, GS-13, HQDA, CIO/G-6.

[FR Doc. 04-6085 Filed 3-17-04; 8:45 am]

BILLING CODE 3710-08-M